DEPARTMENT OF AGRICULTURE

Food and Nutrition Service

Agency Information Collection Activities: WIC Nutrition Assessment and Tailoring Study—In-Person Data Collection

AGENCY: Food and Nutrition Service (FNS), Agriculture (USDA).

ACTION: 60-Day notice and request for comments.

SUMMARY: In accordance with the Paperwork Reduction Act of 1995, this notice invites the general public and other public agencies to comment on this proposed information collection. This collection is a revision of the currently approved collection for the Special Supplemental Nutrition Program for Women, Infants, and Children (WIC) Nutrition Assessment and Tailoring Study (WIC NATS) [OMB Control Number 0584-0663]. The revision adds data collection from in-person site visits, where the data collection activities planned for the currently approved remote site visits will be replicated for use with 30 WIC clinic sites for in-person site visits once WIC clinic sites safely resume in-person operations.

DATES: Written comments must be received on or before October 4, 2021.

ADDRESSES: Comments may be sent to: Alexander Bush, Office of Policy Support, Food and Nutrition Service, USDA, 1320 Braddock Place, Alexandria, VA 22314. Comments may also be submitted via fax to the attention of Karen Castellanos-Brown at 703-305-2732 or via email to Karen.Castellanos-Brown@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information on or copies of this information collection should be directed to Karen Castellanos-Brown at Karen.Castellanos-Brown@usda.gov or Courtney Paolicelli at 571-302-6447.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: WIC Nutrition Assessment and Tailoring Study: In-Person Data Collection.

Form Number: Not applicable.

OMB Number: 0584-0663.

Expiration Date: 04/30/2024.

Type of Request: Revision of a currently approved collection.

Abstract: The Special Supplemental Nutrition Program for Women, Infants, and Children (WIC) provides supplemental foods, nutrition education and breastfeeding support, and referrals to health care and other social services to safeguard the health of low-income women, infants, and children up to 5 years of age who are at nutritional risk. As part of the certification and recertification process, WIC staff perform a comprehensive nutrition risk assessment with each participant to screen for certain nutrition risks and collect other relevant dietary and health information. Based on the nutrition risk assessment, WIC staff can individualize the food package benefits, nutrition education, and referrals the participant receives to meet their unique nutritional needs. While guidelines for conducting a quality nutrition risk assessment are described in the Value Enhanced Nutrition Assessment (VENA) guidance,¹ there is flexibility in how WIC staff conduct the nutrition risk assessment, and specifics of the process may vary by WIC State Agency (SA) and by WIC Local Agency (LA). Through this study, FNS seeks to better understand the nutrition services process as it transpires at WIC clinics, and WIC staff and participants' satisfaction with the process. The findings from this study will be used to develop guidance for WIC staff to enhance service delivery to improve program satisfaction, retention, and participant health and nutrition outcomes.

¹ U.S. Department of Agriculture Food and Nutrition Service. VENA Value Enhanced Nutrition Assessment. Available at: https://wicworks.fns.usda.gov/resources/value-enhanced-nutrition-assessment-vena-guidance.

The four study objectives are: (1) Provide in-depth descriptive information on how a large, diverse sample of local WIC agencies performs the WIC nutrition risk assessment; (2) Systematically describe how a national sample of diverse local WIC agencies uses the collection of nutrition risk assessment information to tailor program benefits, including food packages, nutrition education, breastfeeding promotion and support, and referrals to health and social services; (3) Investigate relationships between WIC nutrition risk services processes (to include the nutrition risk assessment and the associated tailoring of program benefits), and the clinic experience, participant and staff perceptions, and overall clinic flow and efficiency; and (4) Identify specific practices or features of nutrition risk service processes that facilitate the use of nutrition assessment information for providing tailored program benefits, and that are associated with participant and staff satisfaction.

Under the currently approved WIC NATS data collection [OMB Control Number 0584-0663], 30 clinic sites will be selected to participate in remote site visits—where the study team will observe remote nutrition assessment visits (i.e., assessments done via telephone or video call) and then interview WIC participants and staff by telephone. Under this revision, 30 clinic sites will be recruited to participate in the same data collection activities—including direct observation of nutrition assessments and interviews with participants and staff—during in-person site visits. Information collected under this revision will be used to better understand how the nutrition risk assessment process is conducted in a typical, face-to-face setting. This information will also be compared to similar information collected during the remote site visits.

This phase of data collection for in-person site visits reduces the burden to the information collection. While the Local Agencies participated in the remote data collection, the collection activities for the in-person site visits do not collect information from them. As a result, they have been removed from the collection. Although the data collection from the in-person site visits actually adds burden to the four currently approved elements of the collection: (1) Direct observation of nutrition assessments, (2) interviews with clinic site directors; (3) interviews with clinic staff, and (4) interviews with WIC participants, this increase is offset by the removal of the Local Agencies from this collection. Estimates of the number of respondents and hours associated with this data collection are given below. The content of the currently approved data collection instruments has not changed.

Affected Public: (1) State, Local, and Tribal Government; (2) Business or Other for Profit; (3), Not For Profit Organizations; and (4) Individuals/Households. Respondent groups identified include: (1) State, local, and tribal governments (WIC clinic sites); (2) Businesses/Non-Profits; (WIC clinic sites); and (3) Individuals (adults who participate in WIC or who have children that participate in WIC).

Estimated Number of Respondents: The total estimated number of respondents is 1,050 (540 respondents and 510 non-respondents). The total includes 30 clinics (21 government and 9 business), and 1,020 individuals.

Estimated Number of Responses per Respondent: The estimated frequency of response across the entire collection is 4.63. The estimated frequency of response is 5.78 annually for respondents and 3.42 annually for non-respondents. For most of the items in the collection, respondents reply to them only once, with the exception of the informed consents for the observation and staff interviews, the identified risks data collection form, and the staff interview guide. The WIC Clinic respondents will provide consent six times and will complete the data collection form and the interview five times.

Estimated Total Annual Responses: The estimated total number of annual responses is 4,865 (3,120 respondents and 1,745 non-respondents).

Estimated Time per Response: The estimated average response time per response across all respondents in the collection is 0.10 hours (0.15 hours for responsive participants and 0.02 hours for nonresponsive participants). The estimated time of response varies from one minute (0.02 hours) to one hour depending on the respondent group and activity, as shown in table 1.

Estimated Total Annual Burden on Respondents: The total public reporting burden for this collection of information is estimated at 509.38 hours (annually). See table 1 for estimated total annual burden for each type of respondent.

Timothy English,
Acting Administrator, Food and Nutrition Service.

BILLING CODE 3410-30-P

[FR Doc. 2021-16574 Filed 8-3-21; 8:45 am]

BILLING CODE 3410-30-C